DEPARTMENT OF COMMERCE

Foreign-Trade Zones Board

[Order No. 1197]

Expansion of Foreign-Trade Zone 104, Savannah, GA

Pursuant to its authority under the Foreign-Trade Zones Act of June 18, 1934, as amended (19 U.S.C. 81a-81u), the Foreign-Trade Zones Board (the Board) adopts the following Order:

Whereas, the Savannah Airport Commission, grantee of Foreign-Trade Zone 104, submitted an application to the Board for authority to expand FTZ 104-Site 2 at the Garden city/Ocean Terminals and Site 4 at the SPA Industrial Park, and for authority to include two new sites at the Savannah International Trade and Convention Center (Site 5) and Mulberry Grove (Site 6) in Savannah, Georgia, within the Savannah Customs port of entry (FTZ Docket 47-2000; filed 8/7/00; amended 4/21/01);

Whereas, notice inviting public comment was given in the Federal Register (65 FR 50178, 8/17/00; 66 FR 21739, 5/1/01) and the application, as amended, has been processed pursuant to the FTZ Act and the Board's regulations; and,

Whereas, the Board adopts the findings and recommendations of the examiner's report, and finds that the requirements of the FTZ Act and Board's regulations are satisfied, and that the proposal, as amended, is in the public interest;

Now, Therefore, the Board hereby orders:

The application, as amended, to expand FTZ 104 is approved, subject to the Act and the Board's regulations, including Section 400.28, and further subject to the standard 2,000-acre activation limit for the overall zone project.

Signed at Washington, DC, this 18th day of December 2001.
Faryar Shirzad,
Assistant Secretary of Commerce for Import Administration, Alternate Chairman, Foreign-Trade Zones Board.
Dennis Puccinelli,
Executive Secretary.

[FR Doc. 01-31984 Filed 12-27-01; 8:45 am]

BILLING CODE 3510-DS-M